NUCLEAR REGULATORY COMMISSION

[Docket Nos. 52-025-COL and 52-026-COL; ASLBP No.10-903-01-COL-BD02]

Southern Nuclear Operating Company Establishment of Atomic Safety And Licensing Board

Pursuant to delegation by the Commission dated December 29, 1972, published in the Federal Register, 37 FR 28,710 (1972), and the Commission's regulations, see 10 CFR 2.104, 2.300, 2.303, 2.309, 2.311, 2.318, and 2.321, notice is hereby given that an Atomic Safety and Licensing Board (Board) is being established to preside over the following proceeding:

Southern Nuclear Operating Company; (Vogtle Electric Generating Plant, Units 3 and 4)

This proceeding arises from the August 12, 2010 submission of a request for admission of a new contention to challenge the application of Southern Nuclear Operating Company's application for a combined license for Vogtle Electric Generating Plant, Units 3 and 4, to be located in Burke County, Georgia. The request was submitted by the Blue Ridge Environmental Defense League, the Center for a Sustainable Coast, and Georgia Women's Action for New Directions for Clean Energy.¹

¹ On May 19, 2010, a Board that previously was established to adjudicate the contested portion of this proceeding granted summary disposition in favor of applicant, Southern Nuclear Operating Company, on the only admitted contention. Because that decision was not appealed to the Commission, and because the Commission did not take sua sponte review, the contested proceeding was terminated and the prior Board was divested of jurisdiction, thus necessitating the establishment of the instant Board to consider the August 12, 2010 submission. See Commission Order (Aug. 25, 2010) at 1 (unpublished); Licensing Board Memorandum (Referring Request to Admit New Contention to the Commission) (Aug. 17, 2010) at 2-3 (unpublished).

The Board is comprised of the following administrative judges: G. Paul Bollwerk, III, Chairman, Atomic Safety and Licensing Board Panel, U.S. Nuclear Regulatory Commission, Washington, DC 20555-0001.

Nicholas G. Trikouros, Atomic Safety and Licensing Board Panel, U.S. Nuclear Regulatory Commission, Washington, DC 20555-0001.

James F. Jackson, Atomic Safety and Licensing Board Panel, U.S. Nuclear Regulatory Commission, Washington, DC 20555-0001.

All correspondence, documents, and other materials shall be filed in accordance with the NRC E-Filing rule, which the NRC promulgated in August 2007 (72 FR 49,139).

Issued at Rockville, Maryland, this 27th day of August 2010.
E. Roy Hawkens,
Chief Administrative Judge, Atomic Safety and Licensing Board Panel.

[FR Doc. 2010-21940 Filed 9-1-10; 8:45 am]

BILLING CODE 7590-01-P